DEPARTMENT OF STATE

[Public Notice: 12697]

60-Day Notice of Proposed Information Collection: Medical Examination for Visa or Immigration Benefit

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 16, 2025.

ADDRESSES: You may submit comments by any of the following methods:

Web: Persons with access to the internet may comment on this notice by going to www.Regulations.gov. You can search for the document by entering “Docket Number: DOS-2025-0002” in the Search field. Then click the “Comment Now” button and complete the comment form.

• Email: PRA_BurdenComments@state.gov.

• Regular Mail: Send written comments to: Senior Regulatory Coordinator, Visa Services, Department of State, 600 19th St. NW, Washington, DC 20006.

• You must include the DS form number (if applicable), information collection title, and the OMB control number in any correspondence.

SUPPLEMENTARY INFORMATION:

• Title of Information Collection: Medical Examination for Visa or Immigration Benefit.

• OMB Control Number: 1405-0113.

• Type of Request: Extension without change.

• Originating Office: Bureau of Consular Affairs, Visa Office.

• Form Number(s): DS-2054, DS-3025, DS-3026, and DS-3030.

• Respondents: Panel Physicians on behalf of Visa Applicants; Follow-to-Join Refugee/Asylum Applicants; Parole Applicants with Boarding Foils.

• Estimated Number of Respondents: 800.

• Estimated Number of Responses: 146,000.

• Average Time per Response: 1 hour.

• Total Estimated Burden Time: 146,000 hours.

• Frequency: Once for each medical examination performed for a U.S. visa or immigration benefit.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Forms for this collection are completed by panel physicians on behalf of aliens seeking a visa; refugees; follow-to-join refugees and asylees; and certain parolees. The forms record the medical information necessary to determine whether an alien has a medical or other condition affecting their eligibility for a visa or immigration benefit. The information requested includes the result of any diagnostic tests required for the diagnosis of diseases identified as communicable diseases of public health significance, as well as other evaluations identified as necessary to confirm a medical ineligibility under INA sec. 212(a)(1), 8 U.S.C. 1182(a)(1) or to comply with other requirements. Collecting this information is essential to protecting public health in the United States.

Methodology

A panel physician designated by the consular post performs a medical examination of the applicant and completes the forms according to instructions issued by the Centers for Disease Control (CDC). Respondents submit the forms to the appropriate embassy or consulate, either by providing the completed forms to the applicant in a sealed envelope or by sending them directly via courier. The information collected is retained by the Bureau of Consular Affairs. It is also provided to the CDC, and to the Department of Homeland Security upon arrival at the port of entry.

Stuart R. Wilson,
Deputy Assistant Secretary, Bureau of Consular Affairs, Department of State.

[FR Doc. 2025-06628 Filed 4-16-25; 8:45 am]

BILLING CODE 4710-06-P